DEPARTMENT OF JUSTICE

Antitrust Division

Notice Pursuant to the National Cooperative Research and Production Act of 1993—National Center for Manufacturing Sciences: Rapid Reliability Assessment Program (RRAP)

Notice is hereby given that, on July 2, 1999, pursuant to Section 6(a) of the National Cooperative Research and Production Act of 1993, 15 U.S.C. 4301 et seq. (“the Act”), National Center for Manufacturing Sciences: Rapid Reliability Assessment Program (RRAP) has filed written notifications simultaneously with the Attorney General and the Federal Trade Commission disclosing (1) the identities of the parties of the parties and (2) the nature and objectives of the venture. The notifications were filed for the purpose of invoking the Act's provisions limiting the recovery of antitrust plaintiffs to actual damages under specified circumstances. Pursuant to Section 6(b) of the Act, the identities of the parties are Computer-Aided Life Cycle Engineering, College Park, MD; Celestica, Inc., Fort Collins, CO; General Dynamics Information Systems, Inc., Bloomington, MN; Hewlett-Packard Company, Palo Alto, CA Interconnection Technology Research Institute, Austin, TX; National Center for Manufacturing Sciences, Inc., Ann Arbor, MI; QualMark Corporation, Denver, CO; Visteon Automotive Systems, Dearborn, MI; and Wayne State University, Detroit, MI. The nature and objectives of the venture are to develop and demonstrate a new methodology to assist the U.S. high-reliability electronics industry by accelerating its product qualification process.

Constance K. Robinson,
Director of Operations, Antitrust Division.

[FR Doc. 00-3962 Filed 2-17-00; 8:45 am]

BILLING CODE 4410-11-M